DEPARTMENT OF TRANSPORTATION

Federal Aviation Administration

Advisory Circular 23-16, Powerplant Guide for Certification of Part 23 Airplanes

AGENCY: Federal Aviation Administration (FAA), DOT.

ACTION: Notice of issuance and availability.

SUMMARY: Advisory Circular (AC) 23-16, Powerplant Guide for Certification of Part 23 Airplanes provides information and guidance concerning acceptable means, but not the only means of compliance with Title 14 of the Code of Federal Regulations (14 CFR) Part 23, Subpart F, applicable to the powerplant installation in normal, utility, acrobatic, and commuter category airplanes. The AC consolidates existing policy documents, and certain AC's that cover specific paragraphs of the regulations, into a single document. Material in the AC is neither mandatory nor regulatory in nature and does not constitute a regulation.

DATE: AC 23-16 was issued by the Small Airplane Directorate, Aircraft Certification Service, on September 21, 1999.

How to Order: A copy of AC 23-16 may be purchased from the Superintendent of Documents, Post Office Box 371954, Pittsburgh, PA 15250-7954, or from any of the Government Printing Offices located in major cities throughout the United States. Identify the publication as AC 23-16, Powerplant Guide for Certification of Part 23 Airplanes, Stock Number 050-007-01285-3. The cost is $14.00 per copy for orders mailed within the U.S. and $17.50 for orders mailed outside of the U.S. Send a check or money order, made payable to Superintendent of Documents, with your request. No c.o.d. orders are accepted. Also, the AC should be available within a few days on the internet at http://www.faa.gov/avr/air/airhome.htm.

FOR FURTHER INFORMATION CONTACT: Ms. Pat Nininger, Standards Office, Small Airplane Directorate, Aircraft Certification Service, Kansas City, Missouri 64106, telephone (816) 329-4129, fax (816) 329-4090.

Issued in Kansas City, Missouri on February 18, 2000.
Marv Nuss,
Acting Manager, Small Airplane Directorate, Aircraft Certification Service.

[FR Doc. 00-5228 Filed 3-2-00; 8:45 am]

BILLING CODE 4910-13-U